FEDERAL MINE SAFETY AND HEALTH REVIEW COMMISSION

Sunshine Act Meeting Notice; Correction

May 23, 2007.

Time and Date: 10 a.m., Thursday, May 31, 2007.

Place: The Richard V. Backley Hearing Room, 9th Floor, 601 New Jersey Avenue, NW., Washington, DC.

Status: Open.

Matters to be Considered: The Commission will consider and act upon the following in open session: Jaxun v. Asarco, LLC, Docket No. WEST 2006-416-DM. (Issues include whether the Administrative Law Judge erred in requiring a miner pursuing a claim under section 105(c)(3) of the Federal Mine Safety and Health Act of 1977, 30 U.S.C. 815(c)(3), to obtain representation or risk dismissal of his claim.)

Any person attending this meeting who requires special accessibility features and/or auxiliary aids, such as sign language interpreters, must inform the Commission in advance of those needs. Subjects to 29 CFR 2706.150(a)(3) and 2706.160(d).

Contact person for more info: Jean Ellen, (202) 434-9950/(202) 708-9300 for TDD Relay 1-800-877-8339 for toll free.

Jean H. Ellen,
Chief Docket Clerk.

[FR Doc. 07-2785 Filed 5-31-07; 11:28 am]

BILLING CODE 6735-01-M